FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 011700-002.

Title: Senator/CSAV Slot Charter Agreement.

Parties: Senator Lines GmbH, Compania Sud Americana de Vapores.

Synopsis: The proposed amendment would expand the geographic scope of the Agreement to include ports in Asia, Central America, and Mexico.

Agreement No.: 011735.

Title: Safmarine/Andrew Weir Cooperative Working Agreement.

Parties: Andrew Weir Shipping Limited, Safmarine Container Lines NV.

Synopsis: The proposed Agreement provides that the parties will not compete with one another in the trade between U.S. ports and, generally, ports in South and East Africa, Australia, and New Zealand. This Agreement will expire on December 31, 2002.

Agreement No.: 011736.

Title: SEN/CSAV Cross Slot Charterparty Agreement on AMA/MPX.

Parties: Senator Lines GmbH, Bremen, Compania Sud Americana de Vapores S.A.

Synopsis: The proposed agreement authorizes the parties to charter space to and from each other on vessels operated as part of services in which each party respectively participates, covering the trades between United States East Coast ports and ports in Asia, the Middle East, and South Europe.

Dated: December 1, 2000.
By Order of the Federal Maritime Commission.
Bryant L. VanBrakle,
Secretary.

[FR Doc. 00-31073 Filed 12-5-00; 8:45 am]

BILLING CODE 6730-01-P